DEPARTMENT OF DEFENSE

Department of the Air Force

U.S. Air Force Space Command Notice of Test

AGENCY: U.S. Air Force Space Command, Department of the Air Force, DoD.

ACTION: GPS Test Notice.

SUMMARY: The purpose of this notification is to inform users of an upcoming event related to the GPS satellite constellation. U.S. Air Force Space Command will be testing CNAV capabilities on the GPS L2C and L5 signals on 15-29 June 2013. There are no planned GPS satellite outages for this activity. The broadcast navigation messages will be in compliance with IS-GPS-200 and IS-GPS-705. L2C/L5 CNAV testing will be transparent to GPS receivers that do not process L2C or L5 CNAV. U.S. Air Force Space Command expects to conduct one to two CNAV tests per year over the next few years. These test events will provide an opportunity for civil users and manufacturers to participate in L2C/L5 evaluation and will result in enhanced provider and user readiness for L2C/L5 operations once the Next Generation GPS Operational Control System comes online in 2016. The draft test plan is available at (http://www.navcen.uscg.gov/L2C_L5_CNAV_Test_Plan.pdf). The draft test plan communicates details of the broadcast, data collection, and results reporting plans. U.S. Air Force Space Command and the National Space-Based Positioning, Navigation, and Timing Systems Engineering Forum (NPEF) encourage L2C and L5 users and receiver manufacturers to review the test plan, provide comments, and participate in the evaluation process. Comments to the test plan must be submitted on a Comment Resolution Matrix (http://www.navcen.uscg.gov/L2C_L5_CNAV_Test_Plan_Comments_BLANK.xlsx) by 29 April 2013 and sent to Smcgper@us.af.mil. The final test plan will be posted (http://www.navcen.uscg.gov/L2C_L5_CNAV_Test_Plan.pdf) once all comments have been adjudicated. All user and manufacturer comments and the resulting adjudications will also be posted (http://www.navcen.uscg.gov/L2C_L5_CNAV_Test_Plan_Comments.pdf) consistent with the GPS public ICWG process. Any military or civil users who encounter user equipment problems during or after testing should contact the GPS Operations Center (GPSOC) (military), NAVCEN (civil, non-aviation) as soon as possible. Aviation users should file reports consistent with FAA-approved procedures.

FOR FURTHER INFORMATION CONTACT: Send all questions or concerns regarding the CNAV Test Plan to Smcgper@us.af.mil.

Henry Williams Jr,
Acting Air Force Federal Register Liaison Officer.

[FR Doc. 2013-06375 Filed 3-19-13; 8:45 am]

BILLING CODE 5001-10-P